DEPARTMENT OF ENERGY

Federal Energy Regulatory Commission

[Docket No. RP20-859-000]

Notice of Technical Conference; Northern Border Pipeline Company

Take notice that a technical conference concerning the above-captioned proceeding will be held remotely on August 6, 2020, at 10:00 a.m. (EDT). The purpose of the teleconference will be to discuss comments and protests filed in the proceeding.

At the technical conference, the parties to the proceeding should be prepared to discuss all issues set for technical conference as established in the May 29, 2020 Order (Northern Border Pipeline Company, 171 FERC 61,180 (2020)). All interested persons are permitted to attend.

Commission conferences are accessible under section 508 of the Rehabilitation Act of 1973. For accessibility accommodations, please email accessibility@ferc.gov or call toll free 1-866-208-3372 (voice) or 202-502-8659 (TTY); or send a fax to 202-208-2106 with the required accommodations.

All interested parties are invited to participate remotely. Staff will use the WebEx platform to view supporting documents related to this docket. For more information about this technical conference, please contact John Martinic at John.Martinic@ferc.gov or call (202) 502-8630 by August 3, 2020, to register and to receive specific instructions on how to participate in the WebEx platform.

Dated: June 26, 2020.
Nathaniel J. Davis, Sr.,
Deputy Secretary.

[FR Doc. 2020-14285 Filed 7-1-20; 8:45 am]

BILLING CODE 6717-01-P